DEPARTMENT OF THE INTERIOR

Performance Review Board Appointments

AGENCY: Department of the Interior.

ACTION: Notice of Performance Review Board Appointments.

SUMMARY: This notice provides the name of individuals who have been appointed to serve as members of the Department of the Interior Performance Review Board.

DATES: These appointments are effective upon publication in the Federal Register.

FOR FURTHER INFORMATION CONTACT: Marilia Matos, Director, Office of Human Resources, Office of the Secretary, Department of the Interior, 1849 C Street, NW., Washington, DC 20240, Telephone Number: (202) 208-6761.

Dated: December 7, 2005.
Marilia Matos,
Director, Office of Human Resources.

2005 Performance Review Board

The following individuals have been appointed to serve on the Department of the Interior 2005 Performance Review Board:

Ethel Abeita, Director, Office of Trust Records

Kevin Adams, Assistant Director, Law Enforcement

Lauri Adams, Regional Solicitor

Martha Aikens, Program Manager

Marti Albright, Executive Director, Take Pride in America

David Allen, Regional Director, Portland

Joseph Alston, Park Manager

David Applegate, Senior Science Advisor for Earthquakes and Geologic Hazards

Carol Aten, Associate Director for Administrative Policy & Services

Maryanne Bach, Director, Research & Development

Anne Badgley, Executive Director—Regional Ecosystems Office

Karen Baker, Deputy Chief, Office of Administrative Policy & Services (Financial Management)

Keith Beartusk, Regional Director

Richard Beck, Director, Office of Planning and Performance Management

William Benjamin, Regional Director—Great Plains

Lawrence Benna, Deputy Director

John Bennett, Director Trust Program Management Center

K. Lynn Bennett, State Director

Robert A. Bennett, State Director

Edith Blackwell, Deputy Associate Solicitor—Indian Affairs

Douglas Bourgeois, Director, National Business Center

Charles Breece, Attorney-Advisor (General)

Elaine Brong, State Director

Robert Brown, Associate Director for Administration and Budget

John Buffington, Regional Director, Western Region

Brian Burns, Deputy Assistant Secretary IRM/Chief Information Officer

Carla Burzyk, Chief, Office of Budget and Performance

Chad Calvert, Deputy Assistant Secretary—Land and Minerals Management

Scott Cameron, Deputy Assistant Secretary for Performance, Accountability and Human Resources

Thomas Casadevall, Regional Director, Central Region

Dolores Chacon-Alleva, President, DOI University

Debbie Clark, Deputy Assistant Secretary—Management

Horace Clark, Regional Solicitor

David Cohen, Deputy Assistant Secretary for Insular Affairs

Robert Comer, Regional Solicitor

Anthony Conte, Regional Solicitor

Elizabeth Cordova-Harrison, Director, Management Services Office

Walter Cruickshank, Deputy Director

Elena Daly, Assistant Director, National Landscape Conservation Systems

Lucy Querques-Denett, Associate Director for Minerals Revenue Management

Douglas Domenech, Deputy Chief of Staff

Robert Doyle, Deputy Director

Matthew C. Eames, Director, Congressional and Legislative Affairs

Sharon Eller, Director, Office of Civil Rights

Donna Erwin, Principal Deputy Special Trustee

Lawrence Finfer, Deputy Director, Office of Policy Analysis

Daniel Fletcher, Associate Director for Financial Report and Systems

Art Gary, Associate Solicitor—General Law

Rick Gold, Regional Director

John Goll, Regional Director, Alaska OCS Region

Roseanne Gonzales-Schreiner, Director, Program and Policy Services

Rowan Gould, Regional Director—Anchorage

Larry Hamilton, Director, National Wildland Fire Policy and Aviation

Samuel Hamilton, Regional Director—Atlanta

Jeanette Hanna, Regional Director

James Harris, Associate Solicitor—Minerals Resources

William Hartwig, Chief, National Wildlife Refuge System

Nina Hatfield, Deputy Assistant Secretary, Business Management and Wildland Fire

Pamela Haze, Co-Director, Office of Budget

Paul Henne, Assistant Director, Budget Management and Operations

Francis Hodsoll, Deputy Director, Minerals Management Service

Paul Hoffman, Deputy Assistant Secretary—Fish and Wildlife and Parks

Matthew Hogan, Deputy Director, Fish and Wildlife Service

Wandafa Hollingsworth, Chief, Division of Budget and Program Review

Brian Holly, Chief Appraiser

H. Barry Holt, Chief Administrative Judge

Patricia Hooks, Regional Director, Southeast Region

James Hubbard, Director, Office of Wildland Fire Coordination

James Hughes, Deputy Director, Programs and Policy

Fay Iudicello, Director, Office of Executive Secretariat and Regulatory Affairs

Christopher Jarvi, Associate Director, Partnerships Interpretation & Education, Volunteers & Outdoor Recreation

Jonathan Jarvis, Regional Director, Pacific West Region

Lawrence Jensen, Regional Solicitor

Robert Johnson, Regional Director

Marshall Jones, Deputy Director

Daniel Jorjani, Chief of Staff and Counselor to the Assistant Secretary, Policy, Management and Budget

Edward Keable, Associate Solicitor, Administration

Christopher Kearney, Deputy Assistant Secretary for Policy and International Affairs

M. Franklin Keel, Regional Director

Katharine Kimball, Director, External and Intergovernmental Affairs

Suzette Kimball, Regional Director, Eastern Region

Allen Klein, Regional Director

Ernestine Kreisher, Director, Office of Communications

Robert LaBelle, Deputy Associate Director

Matthew Larsen, Chief Scientist for Hydrology

Joseph Lawler, Regional Director, National Capital Region

John Lemon, Director, National Conservation Training Center

Suzanne Lewis, Superintendent

Thomas Lonnie, Assistant Director, Minerals, Realty and Resource Protection

Jane Lyder, Legislative Counsel

Julie Mac Donald, Deputy Assistant Secretary—Fish and Wildlife and Parks

Stephen Martin, Deputy Director, Internal Management

Sue Masica, Associate Director, Park Planning, Facilities and Lands

Marilia Matos, Director, Office of Human Resources

David McCarthy, Deputy Commissioner

John McDonald, Regional Director

Thomas Melius, Assistant Director—External Affairs

Robert More, Director, Office of Hearings and Appeals

Marvin Moriarty, Regional Director

Lawrence Morrin, Regional Director

Donald Murphy, Deputy Director, National Park Service

James Nichols, Research Wildlife Biologist

Michael Nedd, State Director

Brian O'Neill, Park Manager

Michael Olsen, Counselor to the Assistant Secretary

Frederick Ore, Deputy Director, Operations

Glenda Owens, Deputy Director

Larry Parkinson, Deputy Assistant Secretary, Law Enforcement and Security

Mamie Parker, Assistant Director, Fisheries Habitat Conservation

Drue Pearce, Senior Advisor to the Secretary

Jason Peltier, Deputy Assistant Secretary—Water and Science

Lynn Peterson, Regional Solicitor

Neil Plummer, Research Hydrologist

Michael Pool, State Director

Ernest Quintana, Regional Director, Midwest Region

William Ragsdale, Director, Bureau of Indian Affairs

Thomas Readinger, Associate Director, Offshore Minerals Management

Sterling Rideout, Assistant Director—Program Support

William Rinne, Deputy Commissioner (Operations)

Kirk Rodgers, Regional Director

Linda S. C. Rundell, State Director

Carol Sampson, Associate Director for Financial Policy and Operations

Charles Sandberg, Regional Director

Paul Schmidt, Assistant Director, Migratory Birds and State Program

Denise Sheehan, Assistant Director, Budget, Planning and Human Resources

Edward Shepard, Assistant Director, Renewable Resources and Planning

Daniel Shillito, Regional Solicitor

David Smith, Deputy Assistant Secretary & Counselor to the Assistant Secretary, Fish and Wildlife and Parks

Debra Sonderman, Director, Acquisition and Property Management

Michael Soukup, Associate Director, Natural Resources

Stanley Speaks, Regional Director

Kenneth Stansell, Assistant Director, International Affairs

James Tate, Science Advisor to the Secretary

Willie Taylor, Director, Office of Environmental Policy and Compliance

Karen Taylor-Goodrich, Associate Director, Visitors & Resource Protection

Robyn Thorson, Regional Director

Whitney H. Tipton, Chief Information Officer & Director, Office of IRM

Larry Todd, Director, Security, Safety and Law Enforcement

Michael Tollefson, Superintendent

John Trezise, Co-Director, Office of Budget

George Triebsch, Associate Director for Policy

David Verhey, Associate Solicitor—Parks and Wildlife

Terrance Virden, Regional Director—Midwest

Brent Wahlquist, Regional Director

Barbara Wainman, Director, Office of Communication

R. Thomas Weimer, Senior Advisor to the Secretary

Ronald Wenker, State Director

Kathleen Wheeler, Deputy Chief Human Capital Officer

Sarah Wisely, State Director

Robert Wolf, Director, Program and Budget

Theodore Woronka, Assistant Director for Finance and Administration

Elaine Zielinski, State Director

[FR Doc. E5-7387 Filed 12-14-05; 8:45 am]

BILLING CODE 4310-10-P